ENVIRONMENTAL PROTECTION AGENCY

[FRL-8963-1]

State Innovation Grant Program, Preliminary Notice for Proposals for 2010 Awards

AGENCY: Environmental Protection Agency (EPA).

ACTION: Notice.

SUMMARY: The Environmental Protection Agency (EPA or Agency), National Center for Environmental Innovation (NCEI) is giving preliminary notice of its intention to solicit pre-proposals for a 2010 grant program to support innovation by State environmental agencies—the “State Innovation Grant Program.” In addition, EPA is asking each State environmental regulatory agency to designate a point of contact speaking on behalf of management (in addition to the Commissioner, Director, or Secretary) who will be the point of contact for further communication about the upcoming solicitation. If your point of contact from previous State Innovation Grant solicitations is to be your contact for this year's competition, there is no need to send that information again, as all previously designated points of contact will remain on our notification list for this year's competition. EPA anticipates publication of a Solicitation Announcement of Federal Funding Opportunity on the Federal government's grants opportunities Web site (http://www.grants.gov) to announce the availability of the next solicitation within 45 days.

DATES: State environmental regulatory agencies or agencies within States that have received a re-delegation of authority from the principal State environmental regulatory agency for one or more environmental permitting programs will have 30 days from the date of this pre-announcement notice in the Federal Register publication until October 30, 2009 to respond with point of contact information for the person within the agency (in addition to Commissioner, Director, or Secretary) who will be designated to receive future notices about the State Innovation Grant competition. We will automatically transmit notice of availability of the solicitation to people in State agencies identified for previous solicitations.

ADDRESSES: We encourage e-mail responses. Information should be submitted in writing via e-mail to: innovation_state_grants@epa.gov; or fax to “State Innovation Grant Program” at (202) 566-2220. If you have questions about responding to this notice, please contact EPA at this e-mail address or fax number, or you may call Sherri Walker at (202) 566-2186.

EPA will acknowledge all responses it receives to this notice. If you have not received an acknowledgment from EPA within three (3) days of the end of the notice period, please send an e-mail to: innovation_state_grants@epa.gov or call Sherri Walker at (202) 566-2186. Failure to do so may result in your information or comments not being received by the deadline. EPA will respond to all questions in writing, and all comments, questions and responses will be posted on the EPA State Innovation Grant Web site at http://www.epa.gov/innovation/stategrants. Potentially interested applicants are advised to monitor this Web site for information posted in response to questions received prior to and during the competition period.

SUPPLEMENTARY INFORMATION: Background: Historically, the State Innovation Grant Program has been used to strengthen EPA's partnership with the States by supporting State innovation compatible with EPA's Innovation Strategy http://www.epa.gov/innovation/pdf/strategy.pdf. EPA wants to encourage states to build on previous experience (theirs and others) to undertake strategic innovation projects that promote larger-scale models with potential for broader use for “next generation” environmental protection that promise better environmental outcomes and other beneficial results. EPA is interested in funding projects that: (i) Go beyond a single facility experiment and provide change that is “systems-oriented;” (ii) provide better results from a program, process, or sector-wide innovation; and (iii) promote integrated (multi-media) environmental management with a high potential for transfer to other states, U.S. territories, and tribes.

Since 2002, EPA has sponsored seven State Innovation Grant Program competitions that asked for State project pre-proposals that supported the general theme of innovation in environmental permitting. We interpreted this theme broadly to include alternatives to permitting and the establishment of incentives to promote beyond compliance performance. To date, the program has supported projects primarily in three strategic focus areas: Application of the Environmental Results Programs (ERP) model (http://www.epa.gov/permits/erp/index.htm), the application of Environmental Management Systems (EMS) (http://www.epa.gov/permits/ems/index.htm) and other integration tools in permitting, and State performance-based environmental leadership programs similar to the National Environmental Performance Track (PT) Program. EPA's focus on a small number of topics within this general subject area effectively concentrated the limited resources available for greater strategic impact.

Forty awards to States have been made from the seven prior competitions and information on those projects can be found on the EPA Web site at, http://www.epa.gov/innovation/stategrants/projects.htm. These projects received collectively over eight million dollars in assistance. The assistance agreement awards for these projects were made to State environmental regulatory agencies and also to a commission within a State with a re-delegated authority to administer an environmental permitting program. Among the grant projects, including those with pending awards: twenty (20) were provided for development of Environmental Results Programs (ERP), eight (8) were related to Environmental Management Systems (EMS) and permitting, eight (8) were to enhance performance-based environmental leadership programs, two (2) were for watershed-based permitting, two (2) were for integrated permitting approaches, one (1) was for streamlining a storm water permit program using an innovation in information technology, applying geographic information systems (GIS) and a Web-based portal to a permit application and screening process, and one (1) was for development and implementation of a lean manufacturing and environmental technical assistance program to improve environmental and operational performance for industrial and commercial entities. Some of the projects funded fit into more than one category (e.g., combination projects of ERP with PT, or ERP with EMS). For information on prior State Innovation Grant Program solicitations and awards, please see the EPA State Innovation Grants Web site at http://www.epa.gov/innovation/stategrants.

Agencies That Are Eligible to Compete for State Innovation Grants: The competition will be open to all agencies with a delegated authority from EPA for one or more permitting programs, or a re-delegated authority from a principal State environmental regulatory agency for a Federal environmental permitting program. Again this year we will consider these agencies for awards providing that the principal State environmental regulatory agency will be an active member of the project team for a proposal from a re-delegation agency. Agencies are encouraged to partner with other governmental agencies or non-governmental organizations within the State (or outside of their State) that have complementary environmental mandates or symbiotic interests (e.g., energy, agriculture, natural resources management, transportation, public health, sustainability). States are also encouraged to partner with other States and American Indian tribes to address cross-boundary issues, to encourage collaborative environmental partnering within industrial sectors or in certain topical areas (e.g., agriculture), and to create networks for peer-mentoring. EPA regrets that because of the limitation in available funding it is not yet able to open this competition to American Indian tribal environmental agencies but we strongly encourage tribal agencies to join with adjacent States in project proposals.

Historically, EPA has supported State projects that involve innovation in environmental permitting (including alternatives to permitting) related to one of the EPA Innovation Strategy's priority environmental areas, or to other priority areas identified previously by individual States in collaboration with EPA in a formal State-EPA agreement such as a Performance Partnership Agreement (PPA). EPA anticipates continuing the theme of Innovation in Permitting in the 2010 competition. EPA is interested in innovative projects that focus on priority environmental issues, such as reducing greenhouse gases (e.g., energy efficiency), reducing smog, restoring and maintaining water quality, and reducing the cost of water and wastewater infrastructure.

Projects will be much less likely to be funded through this State Innovation Grant if agency resources pertinent to the topic are already available through another EPA program. Project selections and awards will be subject to funding availability.

Request for Designation of a Primary Point of Contact: EPA asks that each State environmental agency or other agencies within a State with a delegated or re-delegated authority for Federal environmental regulatory programs designate a primary point-of-contact who we will add to the EPA notification list for further announcements about the State Innovation Grant Program. For point of contact information, please provide: name, title, department and agency, street or post office address, city, state, zip code, telephone, fax number, and e-mail address. If your point of contact from previous State Innovation Grant solicitations is to be your contact for this year's competition, there is no need to send that information again, as all previously designated points of contact will remain on our notification list for this year's competition. We are asking that any new name be submitted with the knowledge and approval of the highest levels of management within an Agency (Commissioner, Director, Secretary, or their deputies) within 30 days after publication of this notice in the Federal Register. Please submit this information to EPA by mail, fax, or e-mail prior to October 30, 2009 in the following manner.

By e-mail to: Innovation_State_Grants@EPA.gov.

By fax to: State Innovation Grant Program.

(202) 566-2220.

We encourage e-mail responses. If you have questions about responding to this notice, please contact EPA at this e-mail address or fax number, or you may call Sherri Walker at (202) 566-2186. For point-of-contact information, please provide: name, title, department and agency, mailing address (street or P.O. Box), city, state, zip code, telephone, fax number, and e-mail address. EPA will acknowledge all responses it receives to this notice.

Opportunity for Dialogue: Between now and the initiation of the competition with the release of the solicitation, communication between potential applicants and EPA is allowed. This communication may include helping potential applicants determine whether the applicant itself is eligible or if the scope of an applicant's potential project is suitable for funding, as well as responding to general requests for clarification of the notice. State agencies are encouraged to contact the appropriate EPA Regional innovation contact identified in the list below for general discussion about potential projects and their acceptability under an upcoming solicitation. To ensure an equal opportunity for all potential applicants, questions should be sent to NCEI. Responses to questions that come to us during the period between this pre-announcement and the release of the solicitation along with helpful resource materials will be posted on the State Innovation Grant Web site at http://www.epa.gov/innovation/stategrants. The contacts for the EPA Regions and the EPA HQ National Center for Environmental Innovation are as follows:

Anne Leiby or Josh Secunda, U.S. EPA Region 1, 1 Congress Street, Suite 1100, Boston, MA 02114-2023. (617) 918-1076 or (617) 918-1736. leiby.anne@epa.gov or secunda.josh@epa.gov. States: CT, MA, ME, NH, RI, VT .

Irene Boland, U.S. EPA Region 2, 290 Broadway, 26th Floor, New York, NY 10007-1866. (212) 637-3586. boland.irene@epa.gov. States & Territories: NJ, NY, PR, VI.

Michael Dunn, U.S. EPA Region 3, 1650 Arch Street (3EA40), Philadelphia, PA 19103. (215) 814-2712. dunn.michael@epa.gov. States: DC, DE, MD, PA, VA, WV.

LaToya Miller, U.S. EPA Region 4, 61 Forsyth Street, SW., Atlanta, GA 30303. (404) 562-9885. miller.latoya@epa.gov. States: AL, FL, GA, KY, MS, NC, SC, TN.

Marilou Martin, U.S. EPA Region 5, 77 West Jackson Boulevard, Chicago, IL 60604-3507. (312) 353-9660. martin.marilou@epa.gov. States: IL, IN, MI, MN, OH, WI.

Craig Weeks, U.S. EPA Region 6, Fountain Place, Suite 1200, 1445 Ross Avenue, Dallas, TX 75202-2733. (214) 665-7505. weeks.craig@epa.gov. States: AR, LA, NM, OK, TX.

Ashley Betts or Richard Sumpter, U.S. EPA Region 7, 901 North 5th Street, Kansas City, KS 66101. (913) 551-7336 or (913) 551-7661. Betts.ashley@epa.gov or sumpter.richard@epa.gov. States: IA, KS, MO, NE.

Anthony Deloach, U.S. EPA Region 8, 1595 Wynkoop Street, Denver, CO 80202-1129. (303) 312-6070. deloach.anthony@epa.gov. States: CO, MT, ND, SD, UT, WY.

Kathy Meltzer, U.S. EPA Region 9, 75 Hawthorne Street (WTR-1), San Francisco, CA 94105. (415) 972-3714. Meltzer.kathy@epa.gov. States and Territories: AS, AZ, CA, GU, HI, NV.

Bill Glasser, U.S. EPA Region 10, 1200 Sixth Avenue (ENF-T), Seattle, WA 98101. (206) 553-7215. glasser.william@epa.gov. States: AK, ID, OR, WA.

Headquarters Office: Sherri Walker, U.S. EPA (MC 1807T), National Center for Environmental Innovation, State Innovation Grants Program, 1200 Pennsylvania Avenue, NW., Washington, DC 20460. (202) 566-2186. (202) 566-2220 fax.

Dated: September 21, 2009.
David Widawsky,
Associate Office Director, National Center for Environmental Innovation.

[FR Doc. E9-23630 Filed 9-29-09; 8:45 am]

BILLING CODE 6560-50-P